ENVIRONMENTAL PROTECTION AGENCY

[FRL-7169-2]

Agency Information Collection Activities: Proposed Collection; Comment Request; Commuter Choice Leadership Initiative

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Information Collection Activities Associated With the Commuter Choice Leadership Initiative (CCLI). Before submitting the ICR to OMB for review and approval, EPA is soliciting comments on specific aspects of the proposed information collection as described below.

DATES: Comments must be submitted on or before June 10, 2002.

ADDRESSES: Commuter Choice Leadership Initiative, U.S. EPA—Mail Code 6406J, 1200 Pennsylvania Avenue, NW., Washington, DC 20460.

Interested parties may obtain a copy of the ICR by writing to the above address or sending an email to commuterchoice@epa.gov.

FOR FURTHER INFORMATION CONTACT: Gwen Couts, 202-564-9347.

SUPPLEMENTARY INFORMATION: Affected entities: Entities potentially affected by this action are those that join the voluntary Commuter Choice Leadership Initiative. No other entities are affected.

Title: Information Collection Activities Associated With the Commuter Choice Leadeship Initiative; EPA ICR No. 2053.01

Abstract: EPA and the U.S. Department of Transportation (DOT) are launching the Commuter Choice Leadership Initiative (CCLI), a voluntary program for employer-provided commuter benefits in which employers that meet or exceed a national standard of excellence are recognized by EPA. Employers voluntarily sign an Agreement with EPA committing themselves to taking certain actions that will result in reducing the number of single-occupancy vehicles being driven to the workplace, thereby reducing vehicle emissions. Data collection is required for two reasons: to make certain that participating employers are meeting the terms of the agreement and to evaluate the effectiveness of the program. Respondents can be from any kind of employer. An agency may not conduct or sponsor, and a person is not required to respond to, a collection of information unless it displays a currently valid OMB control number.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Total annual burden is estimated at 46,189 hours plus non-labor costs of $493. 41,759 of these hours are projected to come from private entities with the remainder from state and local governments. The projected number of respondents is 400 per year, with fewer in the first year and more in the third. Burden represents once annually reporting estimated to incur a burden of 115 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 19, 2002.
Robert E. Larson,
Division Director, Transportation and Regional Programs Division.

[FR Doc. 02-8534 Filed 4-8-02; 8:45 am]

BILLING CODE 6560-50-P